DEPARTMENT OF ENERGY

Federal Energy Regulatory Commission

[Docket No. CP17-41-000]

Notice of Availability of the Final Environmental Impact Statement for the Eagle LNG Partners Jacksonville, LLC Proposed Jacksonville Project

The staff of the Federal Energy Regulatory Commission (FERC or Commission) has prepared a final environmental impact statement (EIS) for the Jacksonville Project, proposed by Eagle LNG Partners Jacksonville, LLC (Eagle LNG) in the above-referenced docket. Eagle LNG requests authorization to construct and operate a liquefied natural gas (LNG) facility on the north bank of the St. Johns River in Jacksonville, Florida. Eagle LNG's Jacksonville Project would consist of an LNG terminal on about 81.1 acres of a 193.4-acre parcel of land and would produce a nominal capacity of about 1.0 million (metric) tonnes per annum (MTPA) of LNG. The LNG terminal would receive natural gas from a new 120-foot-long non-jurisdictional natural gas pipeline constructed by Peoples Gas' (a subsidiary of TECO Energy, Inc.), connected to its existing local gas distribution transmission pipeline, which is immediately adjacent to the proposed terminal site.

The final EIS assesses the potential environmental effects of the construction and operation of the Jacksonville Project in accordance with the requirements of the National Environmental Policy Act (NEPA). The FERC staff concludes that approval of the Jacksonville Project would result in some limited adverse environmental impacts; however, these impacts would be reduced to less-than-significant levels with the implementation of Eagle LNG's proposed mitigation and the additional measures recommended in the EIS.

The U.S. Department of Energy, U.S. Coast Guard, U.S. Army Corps of Engineers, and U.S. Department of Transportation participated as cooperating agencies in the preparation of the EIS. Cooperating agencies have jurisdiction by law or special expertise with respect to resources potentially affected by the proposal and participate in the NEPA analysis. Although the cooperating agencies provided input to the conclusions and recommendations presented in the EIS, the agencies will present their own conclusions and recommendations in their respective Records of Decision or determinations for the project.

The final EIS addresses the potential environmental effects of the construction and operation of the following project facilities:

• Three LNG trains, each with a nominal capacity of 0.33 MTPA of LNG for export, resulting in a total nominal capacity of 1.0 MTPA;

• One LNG storage tank with a net capacity of 45,000 m³;

• Marine facilities with a concrete access trestle and loading platform, and two liquid loading arms capable of docking and mooring a range of LNG vessels with an LNG cargo capacity of up to 45,000 m³;

• LNG truck loading facilities with a dual bay capable of loading 260 to 520 LNG trucks per year;

• A boil-off gas compression system;

• On-site refrigerant storage;

• Ground flare and cold vent systems; and

• Utilities and support facilities (e.g., administration, control, and workshop buildings; roads and parking areas; power and communications; water, air, septic, and stormwater systems).

The Commission mailed a copy of the Notice of Availability to federal, state, and local government representatives and agencies; elected officials; environmental and public interest groups; Native American tribes; potentially affected landowners and other interested individuals and groups; and newspapers and libraries in the project area. The EIS is only available in electronic format. It may be viewed and downloaded from the FERC's website (www.ferc.gov), on the Environmental Documents page (https://www.ferc.gov/industries/gas/enviro/eis.asp). In addition, the final EIS may be accessed by using the eLibrary link on the FERC's website. Click on the eLibrary link (https://www.ferc.gov/docs-filing/elibrary.asp), click on General Search, and enter the docket number in the “Docket Number” field, excluding the last three digits (i.e., CP17-41). Be sure you have selected an appropriate date range. For assistance, please contact FERC Online Support at FercOnlineSupport@ferc.gov or toll free at (866) 208-3676, or for TTY, contact (202) 502-8659.

Questions?

Additional information about the project is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp.

Dated: April 12, 2019.
Nathaniel J. Davis, Sr.,
Deputy Secretary.

[FR Doc. 2019-07749 Filed 4-17-19; 8:45 am]

BILLING CODE 6717-01-P